DEPARTMENT OF TRANSPORTATION

Federal Railroad Administration

Notice of Application for Approval of Discontinuance or Modification of a Railroad Signal System or Relief from the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236, as detailed below.

Docket Number FRA-2007-29118

Applicant: Massachusetts Bay Commuter Railroad Company, Mr. John B. Mitchell, Assistant Chief Engineer, C&S, 32 Cobble Hill Road, Suite 3, Somerville, Massachusetts 02143-4431.

The Massachusetts Bay Commuter Railroad Company (MBCR) seeks approval of the modification of existing signal system and proposed discontinuance and removal of 26 automatic color light signals. The signal modification on Track 1 and Track 2 of the Fairmont Commuter Rail Line, also known as the Dorchester Branch, owned by the Massachusetts Bay Transportation Authority (MBTA), extends from South Bay Interlocking (Milepost 226.82) to Dana Interlocking (Milepost 220.0), Boston, Massachusetts.

The reason given for the proposed changes is to facilitate train movements around an MBTA bridge rehabilitation project consisting of three bridges on the Dorchester Branch, as well as to retire a signal system comprised of phase selective track circuitry, mechanical relays, and traffic control circuitry that runs through line wire and cables. The project will modify the entire system from a Northeast Operating Rules Advisory Committee (NORAC) Rule 261 system to a NORAC Rule 562 System (cab signals without fixed automatic block signals).

Any interested party desiring to protest the granting of an application shall set forth specifically the grounds upon which the protest is made, and include a concise statement of the interest of the party in the proceeding. Additionally, one copy of the protest shall be furnished to the applicant at the address listed above.

FRA expects to be able to determine these matters without an oral hearing. However, if a specific request for an oral hearing is accompanied by a showing that the party is unable to adequately present his/her position by written statements, an application may be set for public hearing.

All communications concerning this proceeding should identify the appropriate docket number (FRA-2007-29118) and may be submitted by one of the following methods:

Web site: http://dms.dot.gov. Follow the instructions for submitting comments on the DOT electronic site;

Fax: 202-493-2251;

Mail: Docket Management Facility, U.S. Department of Transportation, 1200 New Jersey Avenue, SE., West Building Ground Floor, Room W12-140, Washington, DC 20590; or

Hand Delivery: Room W12-140 of the U.S. Department of Transportation West Building Ground Floor, 1200 New Jersey Avenue, SE., Washington, DC, between 9 a.m. and 5 p.m. Monday through Friday, except Federal holidays.

Communications received within 45 days of the date of this notice will be considered by FRA before final action is taken. Comments received after that date will be considered to the extent practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Issued in Washington, DC on October 3, 2007.
Grady C. Cothen, Jr.,
Deputy Associate Administrator for Safety Standards and Program Development.

[FR Doc. E7-19988 Filed 10-10-07; 8:45 am]

BILLING CODE 4910-06-P